DEPARTMENT OF HEALTH AND HUMAN SERVICES

Food and Drug Administration

[Docket No. FDA-2010-N-0386]

Strategic Plan for Consumer Education via Cooperative Agreement (U18)

AGENCY: Food and Drug Administration, HHS.

ACTION: Notice.

SUMMARY: The Food and Drug Administration (FDA) is announcing its intention to receive and consider a single source application under a cooperative agreement grant (U18) in fiscal year (FY) 2010 to the Partnership for Food Safety Education (PFSE) located in Washington, DC. This cooperative agreement grant is being provided to facilitate a “Strategic Plan for Consumer Education” to determine future directions for PFSE in carrying out a nationwide food safety education program on safe handling practices to prevent foodborne illness. The goal of the cooperative agreement is to help strengthen PFSE, so that FDA's goal may be achieved in improving consumer food safety practices and in turn reduce the incidence of foodborne illness.

DATES: Important dates are as follows:

1. The application due date is August 13, 2010.

2. The anticipated start date is September 2010.

3. The opening date is August 6, 2010.

4. The expiration date is August 16, 2010.

FOR FURTHER INFORMATION CONTACT AND ADDITIONAL REQUIREMENTS CONTACT:

Center's Contact: Danielle Schor, Office of Foods, Food and Drug Administration, WO-Bldg. 1, rm. 3230, Silver Spring, MD 20993, 301-796-5404, email: Danielle.Schor@fda.hhs.gov.

Grants Management Contact: Camille Peake, Division of Acquisition Support and Grants (HFA-500), Food and Drug Administration, 5630 Fishers Lane, rm. 2139, Rockville, MD 20857, 301-827-7175, FAX: 301-827-7101, email: Camille.Peake@fda.hhs.gov.

For more information on this funding opportunity announcement (FOA) and to obtain detailed requirements, please refer to the full FOA located at http://www.fda.gov/AboutFDA/CentersOffices/OC/OfficeofFoods/ucm212095.

SUPPLEMENTARY INFORMATION:

I. Funding Opportunity Description

Funding Opportunity Description Number RFA-FD-10-015

Catalog of Federal Domestic Assistance Number: 93.103

A. Background

This Federal Register notice is being issued by the Office of Foods within the Office of the Commissioner soliciting a sole source grant application from PFSE for funding in support of strategic planning for consumer education. PFSE, begun in May 1997, is the only organization that unites industry associations, consumer and public health groups, academia and government (the U.S. Department of Agriculture (USDA), the Centers for Disease and Control and Prevention, and the Food and Drug Administration) to educate the public about safe food handling and preparation. In 2009, PFSE had 18 association and non-profit contributing members. PFSE, a non-profit organization, is the creator and steward of the “Fight BAC! Campaign”, a food safety education program developed using scientifically based recommendations and resulting from an extensive consumer research process. In 2007, PFSE joined with USDA to create the “Be Food Safe” platform—designed to bring a new look to the four core safe food handling practices and to bring food safety reminders to places where people shop for food. “Fight BAC! Campaign” materials are fully accessible online and utilized by consumers, teachers, dietitians, public health officials, and extension agents across the nation. FDA is one of several government agencies that has signed a Memorandum of Understanding with PFSE.

FDA actively participates with PFSE and values its educational programs, which are essential and consistent with the federal mandate for consumer education contained in section 903(d)(2)(D) (21 U.S.C. 393(d)(2)(D) of the Federal Food, Drug, and Cosmetic Act (the act), which states that the Secretary, through the Commissioner, shall be responsible for executing the act and for conducting educational and public information programs relating to the responsibilities of FDA.

B. Research Objectives

PFSE supports a large, complex, and multi-faceted consumer food safety education program with messaging and programs supported and aligned with FDA, the Centers for Disease Control and Prevention, and the U.S. Department of Agriculture. PFSE remains experienced and poised for continuing services. PFSE is well recognized throughout the country and the world for its science-based, behavior-changing consumer education campaigns.

This cooperative agreement will enable PFSE to continue and enhance the valued utility and impact of its program through the development of a new, updated, national food safety education strategic plan that addresses changes that have occurred through the past decade. These changes are particularly necessary to include emerging food safety concerns. In addition, the cooperative agreement will assist PFSE to build the capacity of the organization.

The funds will support a facilitated strategic planning process to determine future directions for PFSE in carrying out a nationwide food safety education program on safe handling practices to prevent foodborne illness. The process will include PFSE members as well as other stakeholders such as consumer groups, public health organizations, and food safety experts from academia who are not currently members. The process will include re-examining research-based messages, determining PFSE's role over the next 5 years, and determining strategies to enlarge PFSE membership to a greater variety of stakeholders.

Research objectives include the following: A re-examination of food safety messages to ensure inclusion of the latest science, the identification of new educational programs and marketing strategies based on social science theory and behavioral research, and an assessment of the most effective organizational structure for PFSE and opportunities for enlarging membership to enhance program delivery.

FDA will pay for qualitative or quantitative research with stakeholders and meetings with stakeholder groups and consumer experts.

FDA will support the research covered by the notice under the authority of section 301 of the Public Health Service Act (42 U.S.C. 241). FDA's research program is described in the Catalog of Federal Domestic Assistance number 93.103.

C. Eligibility Information

Eligibility is limited to PFSE located in Washington, DC. FDA believes that continued support of PFSE is essential to carry out its Federal mandate for consumer education contained in the act. PFSE is the only organization qualified to fulfill the objectives of the proposed cooperative agreement.

II. Award Information/Funds Available

A. Award Amount

The estimated amount of funds available for support in FY 2010 will be for up to $340,000 (direct costs plus indirect costs).

B. Length of Support

This award will provide 1 year of support.

III. Paper Application, Registration, and Submission Information

To submit a paper application in response to this FOA, applicants should first review the full announcement located at http://www.fda.gov/AboutFDA/CentersOffices/OC/OfficeofFoods/default.htm. Persons interested in applying for a grant may obtain an application from the PHS 398 application instructions available at http://grants.nih.gov/grants/forms.htm. For paper submissions, the following steps are required:

• Step 1: Obtain a Dun and Bradstreet Number (DUNS)

Applicants are now required to have a DUNS number to apply for a grant or cooperative agreement from the Federal Government. The DUNS number is a 9-digit identification number that uniquely identifies business entities. To obtain a DUNS number, call DUN and Bradstreet at 1-866-705-5711. Be certain that you identify yourself as a Federal grant applicant when you contact Dun and Bradstreet.

• Step 2: Register with Central Contractor Registration

Applicants must register with the CCR database. You must have a DUNS number to begin your registration. This database is a government-wide warehouse of commercial and financial information for all organizations conducting business with the Federal Government. The preferred method for completing a registration is through the Web site at http://www.ccr.gov. This Web site provides a CCR handbook with detailed information on data you will need prior to beginning the online pre-registration, as well as steps to walk you through the registration process.

• Step 3: Register With Electronic Research Administration (eRA) Commons

Steps 1 and 2, in detail, can be found at: http://www07.grants.gov/applicants/organization_registration.jsp. Step 3, in detail, can be found at https://commons.era.nih.gov/commons/registration/registrationInstructions.jsp.

After you have followed these steps, submit paper applications to: Camille Peake, Division of Acquisition Support and Grants (HFA-500), Food and Drug Administration, 5630 Fishers Lane, rm. 2139, Rockville, MD 20857, 301-827-7175, FAX: 301-827-7101, email: Camille.Peake@fda.hhs.gov.

Dated: July 30, 2010.
Leslie Kux,
Acting Assistant Commissioner for Policy.

[FR Doc. 2010-19353 Filed 8-5-10; 8:45 am]

BILLING CODE 4160-01-S